ENVIRONMENTAL PROTECTION AGENCY

40 CFR Part 300

[FRL-7587-9]

National Oil and Hazardous Substances Pollution Contingency Plan; National Priorities List

AGENCY: Environmental Protection Agency.

ACTION: Notice of intent for partial deletion of the Del Monte Corporation (Oahu Plantation) Superfund Site from the National Priorities List; Correction.

SUMMARY: The Environmental Protection Agency published a document in the Federal Register of October 30, 2003 concerning request for comments on a Notice of Intent for Partial Deletion of the Del Monte Corporation (Oahu Plantation) Superfund Site from the National Priorities List. The document contained an error.

FOR FURTHER INFORMATION CONTACT: Janet Rosati, 415-972-3165.

Correction

In the Federal Register of October 30, 2003, in FR Doc. 03-27161, on page 61784, in the second column under “IV. Site Background and History,” correct the location of the Poamoho Section in relation to the Kunia Well to read:

The southern and northern boundaries of the Poamoho Section are located 3 miles north and 4.5 miles north, respectively, of the Kunia Well.

Dated: November 10, 2003.
Laura Yoshii,
Acting Regional Administrator, Region 9.

[FR Doc. 03-28786 Filed 11-17-03; 8:45 am]

BILLING CODE 6560-50-P